DEPARTMENT OF COMMERCE

National Oceanic and Atmospheric Administration

RIN 0648-XG682

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a half day meeting via webinar of its Standing, Reef Fish, and Mackerel Scientific and Statistical Committees (SSC).

DATES: The meeting will convene via webinar on Wednesday, January 9, 2019, from 1 p.m. to 5 p.m., EDT.

ADDRESSES: The meeting will be held via webinar.

Council address: Gulf of Mexico Fishery Management Council, 4107 W Spruce Street, Suite 200, Tampa, FL 33607; telephone: (813) 348-1630.

FOR FURTHER INFORMATION CONTACT: Dr. John Froeschke, Deputy Director, Gulf of Mexico Fishery Management Council; john.froeschke@gulfcouncil.org, telephone: (813) 348-1630.

SUPPLEMENTARY INFORMATION:

Day 1—Wednesday, January 9, 2019;1 p.m.-5 p.m.

I. Introductions and Adoption of Agenda

II. Approval of SSC Minutes

a. October 2-3, 2018 SSC Standing, Reef Fish, and Socioeconomic SSC Meeting

III. SEDAR Terms of Reference (TOR)

a. Review King Mackerel Update TOR

b. Review Cobia Update TOR

c. Vermilion Snapper TOR, project schedule and workshop appointments

d. Scamp stock ID and Data Workshop appointments

IV. Review Gulf SEDAR Stock Assessment Schedule 2021

Other Items

Other Business: Update on National SSC VI meeting

— Meeting Adjourns

The meeting will be broadcast via webinar. You may register for the webinar by visiting www.gulfcouncil.org and clicking on the SSC meeting on the calendar.

The Agenda is subject to change, and the latest version along with other meeting materials will be posted on www.gulfcouncil.org as they become available.

Although other non-emergency issues not on the agenda may come before the Scientific and Statistical Committee for discussion, in accordance with the Magnuson-Stevens Fishery Conservation and Management Act, those issues may not be the subject of formal action during this meeting. Actions of the Scientific and Statistical Committee will be restricted to those issues specifically identified in the agenda and any issues arising after publication of this notice that require emergency action under section 305(c) of the Magnuson-Stevens Fishery Conservation and Management Act, provided the public has been notified of the Council's intent to take action to address the emergency.

Dated: December 18, 2018.
Tracey L. Thompson,
Acting Deputy Director, Office of Sustainable Fisheries, National Marine Fisheries Service.

[FR Doc. 2018-27808 Filed 12-21-18; 8:45 am]

BILLING CODE 3510-22-P